DEPARTMENT OF ENERGY

Federal Energy Regulatory Commission

Combined Notice of Filings #1

Take notice that the Commission received the following exempt wholesale generator filings:

Docket Numbers: EG26-117-000.

Applicants: CG Leon County II LLC.

Description: CG Leon County II LLC submits Notice of Self-Certification of Exempt Wholesale Generator Status.

Filed Date: 12/23/25.

Accession Number: 20251223-5313.

Comment Date: 5 p.m. ET 1/13/26.

Take notice that the Commission received the following electric rate filings:

Docket Numbers: ER10-1410-009; ER10-1823-006; ER10-1917-003; ER16-1750-012; ER16-2601-010; ER17-2292-010; ER17-2381-009; ER19-1656-009; ER20-2123-007; ER20-2768-007; ER23-666-003.

Applicants: Foxhound Solar, LLC, Greensville County Solar Project, LLC, Hardin Solar Energy LLC, Wilkinson Solar LLC, Scott-II Solar LLC, Southampton Solar, LLC, Summit Farms Solar, LLC, Eastern Shore Solar LLC, Dominion Nuclear Connecticut, Inc., Dominion Energy Marketing, Inc., Virginia Electric and Power Company.

Description: Triennial Market Power Analysis for Northeast Region of Virginia Electric and Power Company, et al.

Filed Date: 12/22/25.

Accession Number: 20251222-5382.

Comment Date: 5 p.m. ET 2/20/26.

Docket Numbers: ER10-1982-018; ER10-1253-016.

Applicants: Orange and Rockland Utilities, Inc., Consolidated Edison Company of New York, Inc.

Description: Triennial Market Power Analysis for Northeast Region of Consolidated Edison Company of New York, Inc., et al.

Filed Date: 12/19/25.

Accession Number: 20251219-5634.

Comment Date: 5 p.m. ET 2/17/26.

Docket Numbers: ER10-2032-011; ER10-2033-011.

Applicants: Duke Energy Ohio, Inc., Duke Energy Kentucky, Inc.

Description: Triennial Market Power Analysis for Northeast Region of Duke Energy Kentucky, Inc., et al.

Filed Date: 12/18/25.

Accession Number: 20251218-5374.

Comment Date: 5 p.m. ET 2/17/26.

Docket Numbers: ER10-2997-009; ER10-1048-029; ER10-1143-028; ER10-2172-032; ER10-3018-009; ER10-3030-009.

Applicants: Potomac Electric Power Company, Delmarva Power & Light Company, Baltimore Gas and Electric Company, PECO Energy Company, Commonwealth Edison Company, Atlantic City Electric Company.

Description: Triennial Market Power Analysis for Northeast Region of Atlantic City Electric Company, et al.

Filed Date: 12/22/25.

Accession Number: 20251222-5381.

Comment Date: 5 p.m. ET 2/20/26.

Docket Numbers: ER10-3297-021.

Applicants: Powerex Corporation.

Description: Updated Triennial Market Power Analysis for Northwest Region of Powerex Corporation.

Filed Date: 12/22/25.

Accession Number: 20251222-5399.

Comment Date: 5 p.m. ET 2/20/26.

Docket Numbers: ER14-225-010.

Applicants: New Brunswick Energy Marketing Corporation.

Description: Triennial Market Power Analysis for Northeast Region of New Brunswick Energy Marketing Corporation.

Filed Date: 12/19/25.

Accession Number: 20251219-5636.

Comment Date: 5 p.m. ET 2/17/26.

Docket Numbers: ER23-303-001.

Applicants: Danske Commodities US LLC.

Description: Compliance filing: Change in Status to be effective 12/24/2025.

Filed Date: 12/23/25.

Accession Number: 20251223-5363.

Comment Date: 5 p.m. ET 1/13/26.

Docket Numbers: ER24-3091-003.

Applicants: PJM Interconnection, L.L.C.

Description: Tariff Amendment: Amendment of WMPA SA No. 7371; AG1-559 to be effective 12/31/9998.

Filed Date: 12/29/25.

Accession Number: 20251229-5257.

Comment Date: 5 p.m. ET 1/20/26.

Docket Numbers: ER25-1275-001.

Applicants: BHS Solar, LLC.

Description: Triennial Market Power Analysis for Northwest Region of BHS Solar, LLC.

Filed Date: 12/19/25.

Accession Number: 20251219-5635.

Comment Date: 5 p.m. ET 2/17/26.

Docket Numbers: ER26-24-001.

Applicants: Lotus Wind, LLC.

Description: Tariff Amendment: Response to Deficiency Filing to be effective 12/15/2025.

Filed Date: 12/23/25.

Accession Number: 20251223-5342.

Comment Date: 5 p.m. ET 1/13/26.

Docket Numbers: ER26-506-001.

Applicants: Idaho Power Company.

Description: Tariff Amendment: Amended Filing: RS 183—Hemingway Substation Upgrades Construction Agreement to be effective 5/20/2025.

Filed Date: 12/29/25.

Accession Number: 20251229-5000.

Comment Date: 5 p.m. ET 1/20/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 29, 2025.
Carlos D. Clay,
Deputy Secretary.

[FR Doc. 2025-24164 Filed 12-31-25; 8:45 am]

BILLING CODE 6717-01-P